COMMODITY FUTURES TRADING COMMISSION

17 CFR Part 150

RIN 3038-AC51

Revision of Federal Speculative Position Limits

AGENCY: Commodity Futures Trading Commission.

ACTION: Reopening of comment period.

SUMMARY: The Commodity Futures Trading Commission is reopening the period for public comment to provide interested persons additional time to comment on certain proposed amendments pertaining to the Federal speculative position limits for agricultural commodities.

DATES: Comments must be received by January 21, 2008.

ADDRESS: Comments should be submitted to David A. Stawick, Secretary, Commodity Futures Trading Commission, Three Lafayette Centre, 1155 21st Street, NW., Washington, DC 20581. Comments may be sent by facsimile to 202.418.5521, or by e-mail to secretary@cftc.gov. Reference should be made to the “Proposed Revision of Federal Speculative Position Limits.” Comments may also be submitted through the Federal eRulemaking Portal at http://www.regulations.gov.

FOR FURTHER INFORMATION CONTACT: Don Heitman, Attorney, Division of Market Oversight, Commodity Futures Trading Commission, Three Lafayette Centre, 1155 21st Street, NW., Washington, DC 20581, telephone (202) 418-5041, facsimile number (202) 418-5507, electronic mail dheitman@cftc.gov; or Martin Murray, Economist, Division of Market Oversight, telephone (202) 418-5276, facsimile number (202) 418-5507, electronic mail mmurray@cftc.gov.

SUPPLEMENTARY INFORMATION: The Commission is reopening the period for public comment on proposed amendments to regulation 150.2.¹ The amendments were proposed on November 21, 2007 and the comment period initially closed on December 21, 2007.² The amendments, if adopted by the Commission, would increase the Federal speculative position limits enumerated in regulation 150.2 for all single-month and all-months-combined positions in all commodities except oats, pursuant to parameters specified in Commission regulation 150.5(c). The amendments would also aggregate positions in all designated contract market products that share substantially identical terms with the contracts enumerated in regulation 150.2 for the purposes of ascertaining compliance with the Federal speculative position limits.

¹ 17 CFR 150.2.

² 72 FR 65783 (November 21, 2007).

By letter dated December 7, 2007, the National Grain and Feed Association, an association representing companies that utilize exchange traded agricultural contracts to manage price and inventory risks,³ and by letter dated December 14, 2007, the American Bakers Association, an association representing the interests of the wholesale baking industry,⁴ requested an extension of the comment period to better develop a response to Commission's proposed amendments. While the Commission has received commentary on the proposed amendments,⁵ it believes that it would be appropriate to reopen the comment period to ensure that an adequate opportunity is provided for the submission of additional meaningful and substantive comments. Accordingly, the Commission has determined to reopen the comment period for the proposed amendments to regulation 150.2 to January 21, 2008. The Commission notes that it will give full consideration to any comment received in the interval between the closing and reopening of the comment period for the proposed amendments.

³ Letter from Rod Clark, Chair, Risk Management Committee, National Grain and Feed Association, to David A. Stawick, Secretary of the Commission (December 7, 2007) (on file with the Commission).

⁴ Letter from Lee Sanders, Senior Vice President, Government Relations & Public Affairs, Corporate Secretary, American Bakers Association, to David A. Stawick, Secretary of the Commission (December 14, 2007) (on file with the Commission).

⁵ Comment File: 07-014, available at http://www.cftc.gov/lawandregulation/federalregister/federalregistercomments/2007/07-014.html.

Issued in Washington, DC, on December 21, 2007 by the Commission.
David A. Stawick,
Secretary of the Commission.

[FR Doc. E7-25344 Filed 12-28-07; 8:45 am]

BILLING CODE 6351-01-P